ENVIRONMENTAL PROTECTION AGENCY

40 CFR Part 745

[EPA-HQ-OPPT-2010-0173; FRL-9910-44]

RIN 2070-AJ56

Lead; Framework for Identifying and Evaluating Lead-Based Paint Hazards From Renovation, Repair, and Painting Activities in Public and Commercial Buildings

AGENCY: Environmental Protection Agency (EPA).

ACTION: Advanced notice of proposed rulemaking; availability and request for comment on Framework.

SUMMARY: EPA is making the following document available for public review and comment: “Framework for Identifying and Evaluating Lead-Based Paint Hazards From Renovation, Repair, and Painting Activities in Public and Commercial Buildings” (Framework). The Framework describes an approach for identifying and evaluating hazards created by renovations of public and commercial buildings (P&CBs). The Framework also describes how the analyses under this approach would be performed, and presents results of some preliminary analyses that evaluated the impact of different variables on exposure estimates for young children. EPA will consider these comments as the Agency determines whether hazards are created by P&CB renovations and, if appropriate, develops proposed requirements.

DATES: Comments must be received on or before June 30, 2014.

ADDRESSES: Submit your comments, identified by docket identification (ID) number EPA-HQ-OPPT-2010-0173, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Hans Scheifele, National Program Chemicals Division (7404T), Office of Pollution Prevention and Toxics, Environmental Protection Agency, 1200 Pennsylvania Ave. NW., Washington, DC 20460-0001; telephone number: (202) 564-3122; email address: scheifele.hans@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This document is directed to the public in general. However, you may be potentially affected by this action if you perform renovations, repairs, or painting activities on the exterior or interior of P&CBs. The following list of North American Industrial Classification System (NAICS) codes is not intended to be exhaustive, but rather provides a guide to help readers determine whether this document applies to them. Potentially affected entities may include:

• Building construction (NAICS code 236).

• Specialty trade contractors (NAICS code 238).

• Real estate (NAICS code 531).

• Other general governmental support (NAICS code 921).

Full descriptions of these NAICS codes and related establishments are maintained by the U.S. Census Bureau online at https://www.census.gov/eos/www/naics/index.html. If you have any questions regarding the applicability of this action to a particular entity, consult the technical person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Authority

Title IV of the Toxic Substances Control Act (TSCA), 15 U.S.C. 2681 et seq., was enacted to assist the Federal Government in reducing lead exposures, particularly those resulting from lead-based paint. Section 403 of TSCA directs EPA to identify lead-based paint hazards, lead-contaminated dust, and lead-contaminated soil. “Lead-based paint hazard” is defined at TSCA section 401(10).

Section 402(c)(3) of TCSA directs EPA to revise its lead-based paint activities regulations (commonly referred to as lead abatement activities), promulgated under TSCA section 402(a), to apply the regulations to renovation or remodeling activities in target housing, public buildings constructed before 1978, and commercial buildings that create lead-based paint hazards.

III. Overview of the Framework

The Framework (Ref. 1) describes an approach for identifying and evaluating hazards created by renovations of P&CBs. The Framework also describes how the analyses under this approach would be performed, and presents results of some preliminary analyses that evaluated the impact of different variables on exposure estimates for young children.

The Framework also reviews the approach used in 2008 to identify and evaluate hazards in residences and in child-occupied facilities (COFs)—a subset of P&CBs, such as day care centers. This approach is predicated upon defining a hazard as a condition of paint (e.g., peeling, cracking, chipping, or otherwise damaged), or a lead level in dust, soil, paint, etc., that EPA would consider to be a hazard. In the 2008 final Renovation, Repair, and Painting (RRP) rule (Ref. 2) EPA compared the observed dust-lead levels from the renovations tested in the Revised Final Report on Characterization of Dust Lead Levels After Renovation, Repair, and Painting Activities (Ref. 3) to the dust-lead hazard standards promulgated in 2001 (Ref. 4). This approach formed the basis for EPA's determination that all renovation activities that disturb lead-based paint in target housing and COFs—a subset of P&CBs, such as day care centers—create lead-based paint hazards.

Under the approach being considered for the P&CB analysis, however, hazards would be identified as exposures created by P&CB renovations that result in adverse health effects. EPA would model specific interior and exterior P&CB renovation scenarios that represent the broad range of exposure that can occur in P&CBs in order to evaluate whether adverse health effects could occur. These scenarios would take into account the variability in exposure times as well as in building sizes and configurations when evaluating hazards. For children, EPA would likely evaluate Intelligence Quotient (IQ) decrements. For adults, EPA would consider appropriate health effects and their associated concentration-response functions, such as renal effects, cardiovascular effects and others. EPA is reviewing currently available scientific literature to determine if appropriate adverse health effects for adults can be selected and analyzed.

The Framework discusses possible considerations of using the approach for evaluating risk inside P&CBs from renovation activities, including: Ability to target risks associated with renovations, quantification of adult health effects and applicability of modeling results.

Additionally, the Framework describes how the full analyses might be done if this approach were to be selected, and presents the results of preliminary analyses that EPA performed to determine the impact of different variables on predictions of IQ and blood lead level changes for young children. The preliminary analysis was deterministic while any full analysis conducted for the approach would be probabilistic. Thus, preliminary analysis results are not representative of all scenarios that could be analyzed. EPA will determine whether these preliminary results are reproducible once more robust analyses are performed. Therefore, the preliminary findings reported in the Framework should not be construed as final and may change.

Because EPA is providing the information contained in the Framework and an opportunity for public comment prior to issuing any proposed rule, the information contained in the Framework is limited. For instance, the document does not provide significant detail regarding modeling inputs and results, how EPA might apply the results of any analyses, or a discussion regarding what magnitude of deleterious health effect would be considered to be adverse. Further details and the results of such analyses would be provided for review and comment in any future proposal. In addition, EPA plans to make public, and provide for peer review of any such analyses.

IV. Request for Comment

EPA is requesting public review and comment on all aspects of the Framework, and particularly related to the following:

• The utility of the approach discussed in the Framework to assessing risk to human health inside P&CBs as a result of P&CB renovations.

• Making a hazard finding inside nearby homes and COFs as a result of P&CB renovations.

• The overview of an analysis approach outlined in the Framework.

V. References

The following is a listing of the documents that are specifically referenced in this document. The docket includes these documents and other information considered by EPA, including documents that are referenced within the documents that are included in the docket, even if the referenced document is not physically located in the docket. For assistance in locating these other documents, please consult the technical person listed under FOR FURTHER INFORMATION CONTACT.

1. EPA. Framework for Identifying and Evaluating Lead-Based Paint Hazards from Renovation, Repair, and Painting Activities in Public and Commercial Buildings. May 2014.

2. EPA. Lead; Renovation, Repair, and Painting Program; Final Rule. Federal Register (73 FR 21692, April 22, 2008) (FRL-8355-7).

3. EPA. Revised Final Report on Characterization of Dust Lead Levels After Renovation, Repair, and Painting Activities. November 11, 2007. Document ID number EPA-HQ-OPPT-2005-0049-0857.

4. EPA. Lead; Identification of Dangerous Levels of Lead; Final Rule. Federal Register (66 FR 1206, January 5, 2001) (FRL-6763-5).

List of Subjects in 40 CFR Part 745

Environmental protection, Buildings and facilities, Business and industry, Hazardous substances, Lead-based paint, Public and commercial buildings, Renovation, Repair, and Painting Program (RRP), Safety.

Dated: May 22, 2014.
James Jones,
Assistant Administrator, Office of Chemical Safety and Pollution Prevention.

[FR Doc. 2014-12605 Filed 5-29-14; 8:45 am]

BILLING CODE 6560-50-P